DEPARTMENT OF THE TREASURY

Office of Foreign Assets Control

Designation of 3 Individuals Pursuant to Executive Order 13581, “Blocking Property of Transnational Criminal Organizations”

AGENCY: Office of Foreign Assets Control, Treasury.

ACTION: Notice.

SUMMARY: The Treasury Department's Office of Foreign Assets Control (“OFAC”) is publishing the names of 3 individuals whose property and interests in property are blocked pursuant to Executive Order 13581 of July 24, 2011, “Blocking Property of Transnational Criminal Organizations.”

DATES: The designations by the Director of OFAC, pursuant to Executive Order 13581, of the 3 individuals identified in this notice were effective on April 16, 2015.

FOR FURTHER INFORMATION CONTACT: Assistant Director, Sanctions Compliance and Evaluation, Office of Foreign Assets Control, Department of the Treasury, Washington, DC 20220, tel.: 202/622-2490.

SUPPLEMENTARY INFORMATION:

Electronic and Facsimile Availability

This document and additional information concerning OFAC are available from OFAC's Web site (www.treas.gov/ofac). Certain general information pertaining to OFAC's sanctions programs is available via facsimile through a 24-hour fax-on-demand service, tel.: 202/622-0077.

Background

On July 24, 2011, the President issued Executive Order 13581, “Blocking Property of Transnational Criminal Organizations” (the “Order”), pursuant to, inter alia, the International Emergency Economic Powers Act (50 U.S.C. 1701-06). The Order was effective at 12:01 a.m. eastern daylight time on July 25, 2011. In the Order, the President declared a national emergency to deal with the threat that significant transnational criminal organizations pose to the national security, foreign policy, and economy of the United States.

Section 1 of the Order blocks, with certain exceptions, all property and interests in property that are in the United States, that come within the United States, or that are or come within the possession or control of any United States person, of persons listed in the Annex to the Order and of persons determined by the Secretary of the Treasury, in consultation with the Attorney General and the Secretary of State, to satisfy certain criteria set forth in the Order.

On April 16, 2015, the Director of OFAC, in consultation with the Attorney General and the Secretary of State, designated, pursuant to one or more of the criteria set forth in subparagraphs (a)(ii)(A) through (a)(ii)(C) of Section 1 of the Order, 3 individual(s) and 0 entity(-ies) whose property and interests in property are blocked pursuant to the Order.

The listings for these individuals on OFAC's List of Specially Designated Nationals and Blocked Persons appear as follows:

Individual(s)

1. CANALES RIVERA, Élmer (a.k.a. CROOCK; a.k.a. CROOK; a.k.a. CRUCK; a.k.a. Ladron); DOB 26 Jan 1978; POB San Salvador, El Salvador; citizen El Salvador (individual) [TCO].

2. ERAZO NOLASCO, Eduardo (a.k.a. COLOCHO DE WESTER); DOB 09 Jul 1972; POB San Salvador, El Salvador; citizen El Salvador (individual) [TCO].

3. MENDOZA FIGUEROA, José Luis (a.k.a. VIEJO PAVAS); DOB 12 Nov 1964; POB El Salvador; citizen El Salvador (individual) [TCO].

Dated: April 16, 2015.
Andrea Gacki,
Acting Deputy Director, Office of Foreign Assets Control.

[FR Doc. 2015-11427 Filed 5-11-15; 8:45 am]

BILLING CODE 4810-AL-P